DEPARTMENT OF TRANSPORTATION

Federal Aviation Administration

14 CFR Part 71

[Docket No. FAA-2013-0609; Airspace Docket No. 13-ASO-15]

Amendment of Class E Airspace; Tri-Cities, TN

AGENCY: Federal Aviation Administration (FAA), DOT.

ACTION: Final rule.

SUMMARY: This action amends Class E airspace for the Tri-Cities, TN area, by correcting the regulatory text of the Class E surface airspace at Tri-Cities Regional Airport, Tri-Cities, TN. Exclusionary language was omitted in the final rule published in the Federal Register of February 5, 2013, This action is necessary for the safety and management of Instrument Flight Rules (IFR) operations in the Tri-Cities area.

DATES: Effective date: 0901 UTC July 23, 2013.

FOR FURTHER INFORMATION CONTACT: John Fornito, Operations Support Group, Eastern Service Center, Federal Aviation Administration, P.O. Box 20636, Atlanta, Georgia 30320; telephone (404) 305-6364.

History

On February 5, 2013, the FAA published in the Federal Register a final rule amending Class D and E airspace in the Tri-Cities, TN, area (78 FR 7993). The line defining the exclusion of controlled airspace surrounding the Edwards Heliport in the Class E surface area airspace description for Tri-Cities Regional Airport, Tri-Cities, TN, was erroneously omitted. Since any delay in correcting the controlled airspace in order to seek public comment would be inconsistent with the agency's safety mandate, action is taken herein to include the corrective language. Since the regulatory text, as currently described, penetrates the controlled airspace of Edwards Heliport, immediate corrective action is required in the interest of flight safety. Therefore, I find that notice and public procedures under 5 U.S.C. 553(b) is impracticable and contrary to the public interest. Also, in consideration of the need to include this exclusion of controlled airspace for Tri-cities Regional Airport and to avoid confusion on the part of pilots flying in the vicinity of Tri-Cities, TN, the FAA finds good cause, pursuant to 5 U.S.C. 553(d), for making this amendment effective in less than 30 days in order to promote the safe and efficient handling of air traffic in the area.

SUPPLEMENTARY INFORMATION:

The Rule

This amendment to Title 14, Code of Federal Regulations (14 CFR) part 71 amends Class E surface airspace at Tri-Cities Regional Airport, Tri-Cities, TN, by inserting in the regulatory text the exclusion of the 2.5-mile radius surrounding Edwards Heliport.

The Class E airspace designations are published in Paragraph 6002 of FAA Order 7400.9W, dated August 8, 2012, and effective September 15, 2012, which is incorporated by reference in 14 CFR 71.1. The Class E airspace designations listed in this document will be published subsequently in the order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part, A, Subpart I, Section 40103. Under that section, the FAA is charged with prescribing regulations to assign the use of airspace necessary to ensure the safety of aircraft and the efficient use of airspace. This regulation is within the scope of that authority as it amends Class E airspace at Tri-Cities Regional Airport, Tri-Cities, TN.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9W, Airspace Designations and Reporting Points, dated August 8, 2012, and effective September 15, 2012, is amended as follows:

Paragraph 6002 Class E Airspace Designated as Surface Areas

* * * * *

ASO TN E2 Tri-Cities, TN [Amended]

Tri-Cities Regional Airport, TN/VA

(Lat. 36°28′31″ N., long. 82°24′27″ W.)

Edwards Heliport, TN

(Lat. 36°25′57″ N., long. 82°17′37″ W.)

That airspace extending upward from the surface within a 6.8-mile radius of Tri-Cities Regional Airport, excluding the 2.5-mile radius of Edwards Heliport. This Class E airspace area is effective during the specific days and times established in advance by a Notice to Airmen. The effective days and times will thereafter be continuously published in the Airport/Facility Directory.

Issued in College Park, Georgia, on July 10, 2013.
Jack Allen,
Acting Manager, Operations Support Group, Eastern Service Center, Air Traffic Organization.

[FR Doc. 2013-17256 Filed 7-22-13; 8:45 am]

BILLING CODE 4910-13-P